DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment
[9/1/2008 through 9/30/2008]
Firm | Address | Date accepted for filing | Products
Reata Engineering & Machine Works | 7822 South Wheeling , Englewood, CO 80112 | 9/19/2008 | Precision machined parts and components, with specialization in machine parts, special dies, machine tools, jigs and fixtures.
Meta-Lite, Inc. | 93 Entin Road, Clifton, NJ 07014 | 9/19/2008 | Toll Booths, gates, rails, stairs, elevator enclosures, jail cells.
Karthauser & Sons, Inc | W147 N11100 Fond Du, Germantown, WI 53022 | 9/19/2008 | Cut flowers, potted plants and floral supplies.
Eckman Lumber Company d.b.a. Eckman Building | 1280 Main Road, Lehighton, PA 18235 | 9/19/2008 | Roof and floor trusses.
Troutman Chair Company, LLC | 134 Rocker Lane, Troutman, NC 28166 | 9/29/2008 | Rocking chairs, chairs and stools.
The Fountainhead Group, Inc | 23 Garden Street, New York, NY 13147 | 9/17/2008 | Fire pumps, lawn and garden sprayers and foggers.
Wolfe Tool and Machine Co | 210 Lafayette Street, PO, York, PA 17405 | 9/30/2008 | General job shop; pump housing; miscellaneous shafts, fixtures; weldments; frames; mold tooling; axle shafts.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: September 30, 2008.
William P. Kittredge,
Program Officer for TAA.

[FR Doc. E8-23535 Filed 10-3-08; 8:45 am]

BILLING CODE 3510-24-P